DEPARTMENT OF ENERGY

Federal Energy Regulatory Commission

[Docket No. CP12-521-000]

Jo-Carroll Energy, Inc.; Notice of Application

Take notice that on September 12, 2012, Jo-Carroll Energy, Inc. (NFP) (JCE) 793 U.S. Route 20 West, Elizabeth, Illinois 61028, filed in Docket No. CP12-521-000, an application pursuant to section 7(f) of the Natural Gas Act (NGA), as amended, requesting to amend its present service area determination ¹ within which JCE may, without further Commission authorization, enlarge or expand its natural gas distribution facilities. JCE also requests for a continuation of the: (i) Waiver of the Commission's accounting and reporting requirements and other regulatory requirements ordinarily applicable to natural gas companies under the NGA and the NGPA; (ii) pregranted abandonment of this service; and (iii) such further relief the Commission may deem appropriate, all as more fully set forth in the application, which is on file with the Commission and open to the public for inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ Jo-Carroll Energy, Inc. (NFP), 117 FERC ¶ 62,265 (2006).

JCE proposes to retroactively acquire 1.3 miles of 8-inch diameter pipeline from Northern Natural Gas Company (Northern) and a related pressure regulating station that would extend the 3,800 feet of 8-inch diameter pipeline that is presently included in the Jackson County, Iowa, portion of JCE's prior service area determination. JCE states that it acquired the facilities from Northern on January 30, 2012, because the Iowa Utility Board (IUB) requested that JCE install new odorization equipment on its existing facilities to comply with IUB pipeline safety regulations. JCE also states that prior to January 30, 2012, the ownership demarcation point between Northern and JCE was in the middle of the Mississippi River, making JCE's facilities inaccessible for installing the required odorization equipment. JCE further states that its acquisition of the new facilities would not increase JCE's ability to serve customers either inside or outside of its present service area determination. Finally, JCE asserts that the sole reason it seeks to amend its service area determination is that the newly acquired facilities appear to fall outside of the very limited service area determination in Iowa that the Commission previously authorized in 2006.

Any questions regarding this application should be directed to Michael Hastings, Jo-Carroll Energy, Inc. (NFP), 793 U.S. Route 20 West, Elizabeth, Illinois 61028, or via telephone at (815) 858-2207 or email: mhastings@jocarroll.com, or Joshua L. Menter, Miller, Balis & O'Neil, P.C., 1015 15th Street NW., Washington, DC 20005, or via telephone at (202) 296-2960 or email: jmenter@mbolaw.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5:00 p.m. Eastern Time on October 10, 2012.

Dated: September 19, 2012.
Kimberly D. Bose,
Secretary.

[FR Doc. 2012-23618 Filed 9-25-12; 8:45 am]

BILLING CODE 6717-01-P